JUDICIAL CONFERENCE OF THE UNITED STATES

Hearing of the Judicial Conference Advisory Committee on Rules of Civil Procedure, Federal Register Citation of Previous Announcement: 81FR 52713

AGENCY: Judicial Conference of the United States Advisory Committee on Rules of Civil Procedure.

ACTION: Revised notice of proposed amendments and open hearings.

SUMMARY: The Advisory Committee on Rules of Civil Procedure has proposed amendments to the following rules: Civil Rules 5, 23, 62, and 65.1. Three public hearings were scheduled on these proposed amendments. An in-person hearing was held on November 3, 2016, in Washington, DC Two additional public hearings are scheduled. There will be an in-person hearing in Phoenix, Arizona, on January 4, 2017, and a telephonic hearing on February 16, 2017. Those wishing to testify in person on January 4, 2017 or telephonically on February 16, 2017, must contact the Secretary by email at: Rules_Support@ao.uscourts.gov, with a copy mailed to the address below at least 30 days before the hearing.

Please note: The public hearing on the amendments to the Civil Rules previously scheduled in Dallas/Fort Worth, Texas, for February 16, 2017, will be held via telephone conference.

The text of the proposed rules and the accompanying Committee Notes are posted on the Judiciary's Web site at: http://www.uscourts.gov/rules-policies/proposed-amendments-published-public-comment. As previously announced, the public comment period with respect to the proposed amendments opened on August 15, 2016, and written comments or suggestions must be received no later than February 15, 2017. Written comments must be submitted electronically, following the instructions provided on the Web site. All comments submitted will be available for public inspection.

FOR FURTHER INFORMATION CONTACT: Rebecca A. Womeldorf, Secretary, Committee on Rules of Practice and Procedure of the Judicial Conference of the United States, Thurgood Marshall Federal Judiciary Building, One Columbus Circle NE., Suite 7-240, Washington, DC 20544, Telephone (202) 502-1820.

Dated: November 16, 2016.
Rebecca A. Womeldorf,
Secretary, Committee on Rules of Practice and Procedure, Judicial Conference of the United States.

[FR Doc. 2016-28182 Filed 11-22-16; 8:45 am]

BILLING CODE 2210-55-P